DEPARTMENT OF JUSTICE

Antitrust Division

Notice Pursuant to the National Cooperative Research and Production Act of 1993—DirectTrust Standards

Notice is hereby given that, on April 22, 2019, pursuant to Section 6(a) of the National Cooperative Research and Production Act of 1993, 15 U.S.C. 4301 et seq. (“the Act”), DirectTrust Standards (“DirectTrust”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: DirectTrust Standards, Washington, DC. The nature and scope of DirectTrust's standards development activities are: To develop and maintain standards that enable and promote healthcare interoperability using Direct exchange and trust frameworks. DirectTrust received ANSI Accreditation as to develop American National Standards in compliance with the DirectTrust Standards Operating Procedures.

Suzanne Morris,
Chief, Premerger and Division Statistics Unit, Antitrust Division.

[FR Doc. 2019-09698 Filed 5-10-19; 8:45 am]

BILLING CODE 4410-11-P